FEDERAL MARITIME COMMISSION

Ocean Transportation Intermediary License Reissuances

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/address | Date reissued
020890N | Aegis International, Inc., 300 Sunset Road, Suite 301, Burlington TWP, NJ 08016 | May 6, 2009.
000858F | John A. Steer Co., 28 South 2nd Street, Philadelphia, PA 19106 | April 29, 2009.

Sandra L. Kusumoto,
Director, Bureau of Certification and Licensing.

[FR Doc. E9-17418 Filed 7-21-09; 8:45 am]

BILLING CODE 6730-01-P